ENVIRONMENTAL PROTECTION AGENCY

[FRL-7492-2]

Environmental Laboratory Advisory Board (ELAB) Meeting Dates and Agenda

AGENCY: Environmental Protection Agency (EPA).

ACTION: Notice of teleconference meeting.

SUMMARY: The Environmental Protection Agency's Environmental Laboratory Advisory Board (ELAB) will have teleconference meetings on April 23, 2003 at 11 a.m. edt; May 6, 2003 at 11 a.m. edt; May 14, 2003 at 11 a.m. edt; May 20, 2003 at 11 a.m. edt; and May 28, 2003 at 11 a.m. edt in addition to a Face-to-Face Meeting on June 6, 2003 at 8:30 a.m. edt to discuss the ideas and views presented at the previous ELAB meetings, as well as new business. Items to be discussed include: (1) ELAB Charter; (2) funding and budget proposal to EPA for NELAC; (3) assessment of current state of assessor training; (4) follow-up on draft language on ELAB's past recommendations on EPA reference methods; and (5) draft recommendation on implementation of national accreditation program. Written comments on NELAP laboratory accreditation and the NELAC standards are encouraged and should be sent to Ms. Lara P. Autry, DFO, U.S. EPA (E243-05), 4930 Old Page Road, Research Triangle Park, NC 27709, faxed to (919) 541-4261, or e-mailed to autry.lara@epa.gov. Members of the public are invited to listen to the teleconference calls or attend the face-to-face meeting, and time permitting, will be allowed to comment on issues discussed during this and previous ELAB meetings. Those persons interested in attending should call Lara P. Autry at (919) 541-5544 to obtain teleconference information or logistics regarding the hotel for the face-to-face meeting. The number of lines for the teleconferences, however, are limited and will be distributed on a first come, first serve basis. Preference will be given to a group wishing to attend over a request from an individual.

John G. Lyon,
Director, Environmental Sciences Division, National Environmental Research Laboratory.

[FR Doc. 03-10892 Filed 5-1-03; 8:45 am]

BILLING CODE 6560-50-P